DEPARTMENT OF THE INTERIOR

Bureau of Ocean Energy Management

[OMB Control Number 1010-0187]; [MMAA104000]

Information Collection; Proposed Collection for OMB Review; Comment Request: Project Planning for the Use of Outer Continental Shelf Sand, Gravel, and Shell Resources in Construction Projects That Qualify for a Negotiated Noncompetitive Agreement

ACTION: 60-day notice.

SUMMARY: To comply with the Paperwork Reduction Act of 1995 (PRA), the Bureau of Ocean Energy Management (BOEM) is inviting comments on a renewal of a collection of information that we will submit to the Office of Management and Budget (OMB) for review and approval. The information collection request (ICR) concerns the paperwork requirements that respondents will submit to BOEM to obtain Outer Continental Shelf (OCS) sand, gravel, and shell resources for use in shore protection, beach and coastal restoration and other authorized projects, which qualify for a noncompetitive negotiated agreement.

DATES: Submit written comments by December 2, 2013.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010-0187 in your comment and include your name and return address.

FOR FURTHER INFORMATION CONTACT: To obtain information pertaining to this notice and/or the Marine Minerals Program, contact the Program at (703) 787-1215. For a copy of the ICR, contact Arlene Bajusz under ADDRESSES.

SUPPLEMENTARY INFORMATION: OMB Control Number: 1010-0187.

Title: Project Planning for the Use of Outer Continental Shelf Sand, Gravel, and Shell Resources in Construction Projects that Qualify for a Negotiated Noncompetitive Agreement.

Abstract: Under the authority delegated by the Secretary of the Interior, BOEM is authorized, pursuant to section 8(k)(2) of the OCS Lands Act (43 U.S.C. 1337(k)(2)), to convey rights to OCS sand, gravel, and shell resources by noncompetitive negotiated agreement (NNA) for use in shore protection and beach and coastal restoration, or for use in construction projects funded in whole or part by, or authorized by, the Federal Government.

Background

Since 1994, 39 shore protection or beach and coastal restoration projects have been completed using OCS sand resources, conveying more than 75 million cubic yards of OCS material and restoring more than 225 miles of shoreline. Recently, the program has seen an increase in demand for OCS resources due to the decreasing availability of sand sources located in State waters and an increase in coastal storm intensity, duration, and frequency. In order for BOEM to continue to meet the needs of local, State and regional entities, information regarding upcoming projects must be acquired to plan for future projects and anticipated workload. Therefore, BOEM will issue calls for information about needed resources and locations from interested parties to develop and maintain a project schedule. This ICR addresses the information needed from States, local governments, Federal agencies, environmental and other interest organizations, and all other interested parties to update and maintain the project schedule. It includes the potential for an annual call for information and the potential for a call in response to an emergency declaration, such as a tropical storm.

BOEM's calls for information (e.g., letters or Federal Register notices) will request interested parties to submit, in writing or electronically, a description of their proposed projects for which OCS resources will be used. The description must include the offshore borrow sites if known; the estimated date of construction; a short description of current project funding; the name of a primary point of contact with that person's mailing address, telephone number, and email address; as well as any additional information concerning the status of the project that would be useful to BOEM. This information may include detailed maps; geospatial data and coordinates of desired sand resources and sites that would be nourished; a description of the environmental documents that have been completed to date concerning any portion of the project; a cited reference list; status of geological and geophysical permit (if required); information concerning known or suspected archaeological or historic artifacts; interpretations of geology and extent of sand areas; known volumes of sand resource site; historical data related to the proposed borrow or placement area; and a description of the status of Federal, State, and/or local permits required for the project.

In order to meet the needs of the States under the current BOEM staff and funding resources, BOEM may request the relevant States to prioritize their own projects based on several criteria including likelihood of project funding and progress of environmental work.

The information provided by States will help BOEM determine appropriate future resource allocation, identify potential conflicts of use, conduct environmental analyses, develop NNAs, and meet all necessary environmental and legal requirements. With this renewal, we are also including a provision for a call in response to emergency declarations, such as a tropical storm. Hurricane Sandy demonstrated BOEM's need for accurate and timely information following a natural disaster declaration. Therefore, we are increasing the estimated hour burden for this collection.

We will protect information from respondents considered proprietary under the Freedom of Information Act (5 U.S.C. 552) and its implementing regulations (43 CFR part 2). No items of a sensitive nature are collected. Responses are required to obtain or retain benefits.

Frequency: Annually and on occasion.

Description of Respondents: Potential respondents comprise States, counties, localities and tribes.

Estimated Reporting and Recordkeeping Hour Burden: We are estimating that the annual reporting burden for this collection is about 200 hours, assuming an emergency declaration is made each year.

Individual Entity Compilation: 25 entities × 1 hour/entity × 2 responses/year = 50 hours; Individual State Compilation: 15 States × 5 hours/State × 2 responses/year = 150 hours (50 county hours + 150 State hours = 200 total burden hours).

Estimated Reporting and Recordkeeping Non-Hour Cost Burden: We have identified no non-hour paperwork cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments on: (a) Whether or not the collection of information is necessary, including whether or not the information will have practical utility; (b) the accuracy of the burden estimates; (c) ways to enhance the quality, utility, and clarity of the information to be collected; and (d) ways to minimize the burden on respondents.

Agencies must also estimate the non-hour cost burdens to respondents or recordkeepers resulting from the collection of information. Therefore, if you have costs to generate, maintain, and disclose this information, you should comment and provide your total capital and startup costs or annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: September 26, 2013.
Deanna Meyer-Pietruszka,
Chief, Office of Policy, Regulations, and Analysis.

[FR Doc. 2013-24248 Filed 10-2-13; 8:45 am]

BILLING CODE 4310-MR-P